DEPARTMENT OF THE INTERIOR

National Park Service

[N6571; NPS-WASO-NAGPRA-NPS0041195; PPWOCRADN0-PCU00RP14.R50000]

Notice of Inventory Completion: West Virginia Department of Tourism, Charleston, WV

AGENCY: National Park Service, Interior.

ACTION: Notice.

SUMMARY: In accordance with the Native American Graves Protection and Repatriation Act (NAGPRA), the West Virginia Department of Tourism has completed an inventory of human remains and has determined that there is a cultural affiliation between the human remains and Indian Tribes or Native Hawaiian organizations in this notice.

DATES: Repatriation of the human remains in this notice may occur on or after December 17, 2025.

ADDRESSES: Send written requests for repatriation of the human remains in this notice to Dr. Olivia Jones, West Virginia Department of Tourism, Grave Creek Mound Archaeological Complex, 801 Jefferson Avenue, P.O. Box 527, Moundsville, WV 25041, email olivia.a.jones@wv.gov.

SUPPLEMENTARY INFORMATION: This notice is published as part of the National Park Service's administrative responsibilities under NAGPRA. The determinations in this notice are the sole responsibility of the West Virginia Department of Tourism, and additional information on the determinations in this notice, including the results of consultation, can be found in its inventory or related records. The National Park Service is not responsible for the determinations in this notice.

Abstract of Information Available

Human remains representing, at least, one individual has been identified. No associated funerary objects are present. At some time prior to 1953, the human remains were acquired by geologist Mr. Noel Moebs of Bruceton, Pennsylvania. According to Moebs, the human remains were removed from a small mound near Ocala, Florida in Marion County by students from the University of Florida. Moebs donated the human remains to West Virginia University Department of Geology in 1953 which donated them to the West Virginia Geological and Economic Survey's (WVGES) Section of Archaeology. The WVGES Section of Archaeology collections are in the control of the West Virginia Archaeological Research and Collections Management Facility of the West Virginia Department of Tourism.

Cultural Affiliation

Based on the information available and the results of consultation, cultural affiliation is reasonably identified by the geographical location or acquisition history of the human remains described in this notice.

Determinations

The West Virginia Department of Tourism has determined that:

• The human remains described in this notice represent the physical remains of one individual of Native American ancestry.

• There is a connection between the human remains described in this notice and the Miccosukee Tribe of Indians; Seminole Tribe of Florida; and The Seminole Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after December 17, 2025. If competing requests for repatriation are received, the West Virginia Department of Tourism must determine the most appropriate requestor prior to repatriation. Requests for joint repatriation of the human remains are considered a single request and not competing requests. The West Virginia Department of Tourism is responsible for sending a copy of this notice to the Indian Tribes and Native Hawaiian organizations identified in this notice and any other consulting parties.

Authority: Native American Graves Protection and Repatriation Act, 25 U.S.C. 3003, and the implementing regulations, 43 CFR 10.10.

Dated: September 18, 2025.
Melanie O'Brien,
Manager, National NAGPRA Program.

[FR Doc. 2025-19964 Filed 11-14-25; 8:45 am]

BILLING CODE 4312-52-P